Title 3—

The President

Notice of June 14, 2011

Continuation of the National Emergency With Respect to the Actions and Policies of Certain Members of the Government of Belarus and Other Persons To Undermine Belarus Democratic Processes or Institutions

On June 16, 2006, by Executive Order 13405, the President declared a national emergency and ordered related measures blocking the property of certain persons undermining democratic processes or institutions in Belarus, pursuant to the International Emergency Economic Powers Act (50 U.S.C. 1701-1706). The President took this action to deal with the unusual and extraordinary threat to the national security and foreign policy of the United States constituted by the actions and policies of certain members of the Government of Belarus and other persons to undermine Belarus democratic processes or institutions; to commit human rights abuses related to political repression, including detentions and disappearances; and to engage in public corruption, including by diverting or misusing Belarusian public assets or by misusing public authority.

The flawed December 2010 Presidential election in Belarus and its aftermath—the harsh violence against peaceful demonstrators; the continuing detention, prosecution, and imprisonment of opposition Presidential candidates and others; and the continuing repression of independent media and civil society activists—all show that the Government of Belarus has taken steps backward in the development of democratic governance and respect for human rights.

The actions and policies of the Government of Belarus and other persons continue to pose an unusual and extraordinary threat to the national security and foreign policy of the United States. Accordingly, the national emergency declared on June 16, 2006, and the measures adopted on that date to deal with that emergency, must continue in effect beyond June 16, 2011. Therefore, in accordance with section 202(d) of the National Emergencies Act (50 U.S.C. 1622(d)), I am continuing for 1 year the national emergency declared in Executive Order 13405.

This notice shall be published in the Federal Register and transmitted to the Congress.

THE WHITE HOUSE,

June 14, 2011.

[FR Doc. 2011-15054

Filed 6-14-11; 11:15 am]

Billing code 3195-W1-P